DEPARTMENT OF TRANSPORTATION

Federal Aviation Administration

14 CFR Part 135

[Docket No.: FAA-2012-0007; Amdt. No. 135-126]

RIN 2120-AK02

Authorization To Use Lower Than Standard Takeoff, Approach and Landing Minimums at Military and Foreign Airports; Confirmation of Effective Date

AGENCY: Federal Aviation Administration (FAA), DOT.

ACTION: Direct final rule; confirmation of effective date.

SUMMARY: This action confirms the effective date of the direct final rule published on January 11, 2012. The rule allows qualified operators to conduct lower than standard instrument flight rules (IFR) airport operations at military airports or outside the United States when authorized to do so by their operations specifications.

DATES: The effective date for the direct final rule published on January 11, 2012, at 77 FR 1629, is confirmed as February 27, 2012.

ADDRESSES: For information on where to obtain copies of rulemaking documents and other information related to this action, see “How To Obtain Additional Information” in the SUPPLEMENTARY INFORMATION section of this document.

FOR FURTHER INFORMATION CONTACT: For technical questions concerning this action, contact Gregory French, Air Transportation Division, 135 Air Carrier Operations Branch, AFS-250, Federal Aviation Administration, 800 Independence Avenue SW., Washington, DC 20591; telephone (202) 267-4112; email gregory.french@faa.gov.

For legal questions concerning this action, contact Robert Frenzel, Office of the Chief Counsel, Operations Law Branch, (AGC-220), Federal Aviation Administration, 800 Independence Avenue SW., Washington, DC 20591; telephone (202) 267-3073; email robert.frenzel@faa.gov.

SUPPLEMENTARY INFORMATION:

Background

Before publication of this direct final rule on January 11, 2012 (77 FR 1629), Title 14, Code of Federal Regulations (14 CFR) limited certain operators to a takeoff minimum visibility of 1 mile, and a landing minimum visibility of ½ mile when conducting IFR operations at foreign and military airports, even when the operator has demonstrated the ability to safely conduct operations in lower visibility. The FAA has determined since many part 135 operators have met the requirement necessary to conduct lower than standard IFR operations authorized by OpSpec C079, it would amend the requirement to allow for lower than standard IFR operations at military and foreign airports only for those part 135 operators authorized through that OpSpec.

Discussion of Comments

The FAA received comments from two individual commenters. Both commenters supported the rule change. The commenters generally stated that the rule change permitted those operators that obtain authority to conduct lower than standard visibility operations at U.S. airports to exercise the same authority at foreign and military airports.

Conclusion

After consideration of the comments submitted in response to the direct final rule, the FAA has determined that no further rulemaking action is necessary. The rule will take effect on February 27, 2012.

How To Obtain Additional Information

A. Rulemaking Documents

An electronic copy of a rulemaking document my be obtained by using the Internet—

1. Search the Federal eRulemaking Portal (http://www.regulations.gov);

2. Visit the FAA's Regulations and Policies Web page at http://www.faa.gov/regulations_policies/ or

3. Access the Government Printing Office's Web page at http://www.fdsys.gov.

Copies may also be obtained by sending a request (identified by notice, amendment, or docket number of this rulemaking) to the Federal Aviation Administration, Office of Rulemaking, ARM-1, 800 Independence Avenue SW., Washington, DC 20591, or by calling (202) 267-9680.

B. Comments Submitted to the Docket

Comments received may be viewed by going to http://www.regulations.gov and following the online instructions to search the docket number for this action. Anyone is able to search the electronic form of all comments received into any of the FAA's dockets by the name of the individual submitting the comment (or signing the comment, if submitted on behalf of an association, business, labor union, etc.).

C. Small Business Regulatory Enforcement Fairness Act

The Small Business Regulatory Enforcement Fairness Act (SBREFA) of 1996 requires FAA to comply with small entity requests for information or advice about compliance with statutes and regulations within its jurisdiction. A small entity with questions regarding this document, may contact its local FAA official, or the person listed under the FOR FURTHER INFORMATION CONTACT heading at the beginning of the preamble. To find out more about SBREFA on the Internet, visit http://www.faa.gov/regulations_policies/rulemaking/sbre_act/.

Issued in Washington, DC, on February 23, 2012.
John W. McGraw,
Acting Director, Flight Standards Service.

[FR Doc. 2012-4633 Filed 2-27-12; 8:45 am]

BILLING CODE 4910-13-P